DEPARTMENT OF THE TREASURY

Alcohol and Tobacco Tax and Trade Bureau

Proposed Information Collections; Comment Request

AGENCY: Alcohol and Tobacco Tax and Trade Bureau, Treasury.

ACTION: Notice and request for comments.

SUMMARY: As part of our continuing effort to reduce paperwork and respondent burden, and as required by the Paperwork Reduction Act of 1995, we invite comments on the proposed or continuing information collections listed below in this notice.

DATES: We must receive your written comments on or before September 8, 2008.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form, or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following records and forms:

Title: Claim-Alcohol, Tobacco, and Firearms Taxes.

OMB Number: 1513-0030.

TTB Form Number: 5620.8.

Abstract: This form, along with other supporting documents, is used to obtain credit, remission, and allowance of tax on taxable articles (alcohol, beer, tobacco products, firearms, and ammunition) that have been lost and to obtain refund of overpaid taxes and abatement of overassessed taxes. It is also used to request a drawback of tax paid on distilled spirits used in the production of nonbeverage products.

Current Actions: There are no changes to this information collection, and we are submitting it for extension purposes only.

Type of Review: Extension of a currently approved collection.

Affected Public: Business or other for-profit, Individuals or households, Not-for-profit institutions.

Estimated Number of Respondents: 10,000.

Estimated Total Annual Burden Hours: 10,000.

Title: Report of Wine Premises Operations.

OMB Number: 1513-0053.

TTB Form Number: 5120.17.

Abstract: TTB F 5120.17 is used to monitor wine operations, to ensure collection of wine tax revenue, and to ensure wine is produced in accordance with law and regulations. This report also provides raw data on wine premises activity.

Current Actions: We are making changes, such as providing for quarterly reporting, and making minor corrections to this information collection, and we are submitting it as a revision.

Type of Review: Revision of a currently approved collection.

Affected Public: Business or other for-profit.

Estimated Number of Respondents: 4,329.

Estimated Total Annual Burden Hours: 29,616.

Title: Marks on Wine Containers.

OMB Number: 1513-0092.

TTB Recordkeeping Requirement Number: 5120/3.

Abstract: TTB requires that wine on wine premises be identified by statements of information included on labels or contained in marks. TTB uses this information to validate the receipt of excise tax revenue by the Federal government. The record retention period is only required as long as the container is used for storing wine.

Current Actions: There are no changes to this information collection, and we are submitting it for extension purposes only.

Type of Review: Extension of a currently approved collection.

Affected Public: Business or other for-profit.

Estimated Number of Respondents: 1,560.

Estimated Total Annual Burden Hours: One (1).

Title: Tobacco Bond—Surety and Tobacco Bond—Collateral.

OMB Number: 1513-0103.

TTB Form Numbers: 5200.26 and 5300.25, respectively.

Abstract: TTB requires a corporate surety bond or a collateral bond to ensure payment of the excise tax on tobacco products and cigarette papers and tubes removed from the factory or warehouse. TTB F 5200.26 and 5300.25 identify the agreement to pay and the persons from which TTB will attempt to collect any unpaid excise tax. Manufacturers of tobacco products or cigarette papers and tubes and proprietors of export warehouses, along with corporate sureties if applicable, are the respondents for these TTB forms. These forms are filed with collateral sufficient to cover the excise tax on tobacco products and cigarette paper and tubes.

Current Actions: There are no changes to this information collection and we are submitting it for extension purposes only.

Type of Review: Extension of a currently approved collection.

Affected Public: Business or other for-profit.

Estimated Number of Respondents: 15.

Estimated Total Annual Burden Hours: 25.

Title: Certification of Proper Cellar Treatment for Imported Natural Wine.

OMB Number: 1513-0119.

TTB Form Number: None.

Abstract: TTB requires importers of natural wine to certify compliance with proper cellar treatment standards. This certification is necessary to comply with statutory requirements.

Current Actions: There are no changes to this information collection and we are submitting it for extension purposes only.

Type of Review: Extension of a currently approved collection.

Affected Public: Business or other for-profit.

Estimated Number of Respondents: 4,000.

Estimated Total Annual Burden Hours: 6,600.

Dated: July 3, 2008.
Francis W. Foote,
Director, Regulations and Rulings Division.

[FR Doc. E8-15559 Filed 7-8-08; 8:45 am]

BILLING CODE 4810-31-P